DEPARTMENT OF AGRICULTURE

Office of the Secretary

Meeting Notice of the National Agricultural Research, Extension, Education, and Economics Advisory Board, Specialty Crop Committee

AGENCY: Research, Education, and Economics, USDA.

ACTION: Notice of public meeting.

SUMMARY: In accordance with the Federal Advisory Committee Act, the National Agricultural Research, Extension, and Teaching Policy Act, and the Agriculture Improvement Act of 2018, the United States Department of Agriculture (USDA) announces a meeting of the Specialty Crop Committee.

DATES: The National Agricultural Research Extension, Education, and Economics Advisory Board, Specialty Crop Committee will meet virtually via Zoom on January 19-20, 2022. The public may file written comments by to January 3, 2022.

ADDRESSES: The meeting will take place virtually via the Zoom meeting application at this link: SCC Jan 2022 Meeting Link.

Web Preregistration: Participants wishing to participate should preregister by email at nareee@usda.gov to the attention of Ms. Shirley Morgan-Jordan. A meeting link will be sent out to pre-registered guests.

Written comments may be sent to The National Agricultural Research, Extension, Education, and Economics Advisory Board Office, Room 6019, The South Building, United States Department of Agriculture, 1400 Independence Avenue SW, Washington, DC 20250-0321. We recommend you email comments to nareee@usda.gov.

FOR FURTHER INFORMATION CONTACT: Kate Lewis, Executive Director/Designated Federal Official, or Shirley Morgan-Jordan, Program Support Coordinator, National Agricultural Research, Extension, Education, and Economics Advisory Board; telephone: (202) 380-5373 or email: nareee@usda.gov.

SUPPLEMENTARY INFORMATION:

Purpose of the meeting: To hear feedback on USDA's National Institute of Food and Agriculture (NIFA) Specialty Crop Research Initiative (SCRI) grant projects awarded in 2021. Project Directors will present their projects that address the critical needs of the specialty crop industry supporting research and extension issues by addressing key challenges of national, regional, and multi-state importance in sustaining all components of food and agriculture, including conventional and organic food production systems. An agenda for this two-day meeting may be received from Shirley Morgan-Jordan or at https://nareeeab.ree.usda.gov.

Public Participation: This meeting is open to the public via Zoom meeting application and via phone for any interested individuals wishing to attend. Opportunity for public comment will be offered. To attend the virtual meeting and/or make oral statements regarding any items on the agenda, you must contact USDA by email at: nareee@usda.gov. at least 5 business days prior to the meeting. Members of the public will be heard in the order in which they sign up at the beginning of the meeting. The Chair will conduct the meeting to facilitate the orderly conduct of business. Written comments by attendees and other interested stakeholders will be welcomed for the public record before and up to two weeks following the Board meeting (no later than close of business on Thursday, February 3, 2022). All written statements must be sent to Shirley Morgan-Jordan, Program Coordinator, National Agricultural Research, Extension, Education, and Economics Advisory Board, U.S. Department of Agriculture, Room 6019, The South Building, 1400 Independence Avenue SW, Washington, DC 20250-0321; or by email: nareee@usda.gov. All statements will become a part of the official record of the National Agricultural Research, Extension, Education, and Economics Advisory Board and will be kept on file for public review in the Research, Education, and Economics Advisory Board Office.

Dated: December 14, 2021.
Cikena Reid,
USDA Committee Management Officer.

[FR Doc. 2021-27634 Filed 12-20-21; 8:45 am]

BILLING CODE 3410-03-P